DEPARTMENT OF THE INTERIOR

Fish and Wildlife Service

Availability of a Draft Environmental Assessment for Federal Agency Participation in the June Sucker Recovery Implementation Program

AGENCIES: Fish and Wildlife Service, Bureau of Reclamation, Utah Reclamation Mitigation and Conservation Commission, Interior.

ACTION: Notice of availability of a draft environmental assessment for Federal agency participation in the June Sucker recovery implementation program.

SUMMARY: This notice advises the public that the Draft Environmental Assessment (DEA) for Federal agency participation in the June Sucker Recovery Implementation Program (Program) is available for public review and comment. The purpose of the proposed Federal action described in the DEA is to formally declare the intention of the Fish and Wildlife Service (Service), Bureau of Reclamation, Utah Reclamation Mitigation and Conservation Commission, and Interior to participate in the multi-agency program designed to implement recovery actions for the endangered June sucker. In addition to implementing recovery actions, the Program will facilitate resolution of conflicts associated with June sucker recovery in the Utah Lake and Provo River basins in Utah. Other participants include the State of Utah Department of Natural Resources, the Central Utah Water Conservancy District, Provo River Water Users Association, Provo Reservoir Water Users Company, and representation from an outdoor interest group. We are seeking comments from the public, other concerned governmental agencies, the scientific community, the environmental community, industry, and any other interested parties on this DEA.

DATES: We must receive comments on the DEA on or before December 13, 2001 to be considered.

ADDRESSES: Written comments should be addressed to the Field Supervisor, Utah Ecological Services Field Office, Lincoln Plaza, 145 East 1300 South, Suite 404, Salt Lake City, Utah 84115. Copies of the draft document are available via request to the Field Office. All comments and material received will be available upon request for public inspection, by appointment, during normal business hours at the above address.

FOR FURTHER INFORMATION CONTACT: Mr. Henry Maddux, Utah Field Supervisor, (see ADDRESSES above), or at 801-524-5001 extension 124.

SUPPLEMENTARY INFORMATION: Copies of the DEA will be mailed to affected government offices and interested parties who specifically request it. Those interested persons not on the DEA mailing list may request a copy from the project leader at the address below. Public comment on the DEA is solicited. All interested agencies and individuals are urged to provide comments and suggestions regarding the DEA for our review prior to completion of a final finding. All comments received within 30 days after publication in the Federal Register will be considered in our final determination whether to prepare an environmental impact statement or a finding of no significant impact on Federal agency participation in the June Sucker Recovery Implementation Program. All comments received will become part of the official public record. Requests for such comments will be handled in accordance with the Freedom of Information Act and the Council on Environmental Quality's National Environmental Policy Act Regulations (40 CFR 1506.6). When requested, comment letters with the names and addresses of the individuals who wrote the comments will generally be provided in response to such requests to the extent permissible by law. Individual respondents may request that we withhold their home address from the record, which we will honor to the extent allowable by law. If you wish to withhold your name and/or address, you must state this prominently at the beginning of your comments.

Background

The June Sucker was federally listed as an endangered species with critical habitat on April 30, 1986 (51 FR 10857). The lower 7.8 kilometers (4.9 miles) of the Provo River was identified as critical habitat because this was the only known spawning location for the species. Factors contributing to Federal listing included the localized distribution, failure to recruit individuals to the adult life stage, and multiple threats to the continued survival of the June Sucker. The Service designated the June Sucker as a species with a high risk of extinction, a low recovery potential, and the presence of conflict. Water development and operations, sportfish management, and habitat development are the primary conflicts with the June Sucker recovery. The species had a documented wild population of fewer than 1,000 individuals at the time of listing (51 FR 10857). More recently, in 1997, the spawning population was estimated to be between 311 and 515 individuals.

Despite Federal listing of the June Sucker, implementation of recovery actions in the Utah Lake drainage basin has been minimal due to limited funding for recovery. Furthermore, conflicts have arisen between water development interests and those managing for protection of the June Sucker. To resolve this situation, the interested entities agreed to develop the June Sucker Recovery Implementation Program that would provide a mechanism to prioritize, fund, and implement recovery actions while allowing water development necessary to meet human needs in the Utah Lake drainage basin including Utah Lake and the Provo River. It is anticipated that the Program will not only provide recovery actions that are necessary to offset impacts from proposed development actions to the native protected species, but further lead to full recovery of the June Sucker.

The Program will encompass the June Sucker Recovery Plan so that actions identified in these documents can be funded, implemented, and evaluated for effectiveness. In addition, the Program will provide measures to offset proposed Federal project impacts during section 7 consultations in order to prevent future conflict over water development and minimize impacts of Federal projects on protected aquatic species. Goals and objectives of the Program are based on recovery of the endangered fish in an environment of continuing water development. Although some impacts to the aquatic environment are expected through future water development projects, recovery actions have been and will continue to be implemented in advance of project impacts such that the status of the June Sucker and/or its habitat is expected to improve and remain greater than that necessary to offset anticipated impacts.

It is important to note that participation in this Program does not represent or guarantee legal authority for any water development project. Such projects must be evaluated individually as they are proposed and continue to be subject to all applicable Federal and State laws including National Environmental Policy Act and Endangered Species Act. This DEA is not intended to provide analysis for specific project impacts, but rather analyze only effects of Federal participation in the Program.

Author

The primary author of this notice is Yvette K. Converse, U.S. Fish and Wildlife Service, 145 East 1300 South, Suite 404, Salt Lake City, Utah 84115, or at 801-524-5001 extension 135.

Authority

The authorities for this action are the National Environmental Policy Act of 1969 (42 U.S.C. 4321 et seq.) and the Endangered Species Act of 1973 (16 U.S.C. 1532 et seq.)

Dated: November 2, 2001.
Ralph O. Morgenweck,
Regional Director, Denver, Colorado.

[FR Doc. 01-28336 Filed 11-9-01; 8:45 am]

BILLING CODE 4310-55-P